LIBRARY OF CONGRESS

Copyright Office

[Docket No. 2007-5]

Cable Compulsory License: Specialty Station List

AGENCY: Copyright Office, Library of Congress.

ACTION: Notice of filings, request for comments.

SUMMARY: The Copyright Office is publishing a final list of stations listed in affidavits sent to the Copyright Office in which the owner or licensee of the station attests that the station qualifies as a specialty station in accordance with the Federal Communications Commission's (FCC) definition of specialty station in effect on June 24, 1981. Any party may file an objection to an owner’s claim of specialty station status with the Copyright Office.

DATES: Comments must be received on or before July 16, 2007. The effective date of the annotated list will coincide with the beginning of the accounting period that starts after the publication of the final list in the Federal Register.

ADDRESSES: If hand delivered by a private party, the sworn affidavit should be brought to Room 401 of the James Madison Building between 8:30 a.m. and 5 p.m. The material should be addressed as follows: Office of the General Counsel, Library of Congress, James Madison Building, LM-401, Washington, DC, 20559-6000.

If delivered by a commercial courier, the sworn affidavit must be delivered to the Congressional Courier Acceptance Site (“CCAS”) located at 2nd and D Streets, NE, Washington, D.C. between 8:30 a.m. and 4 p.m. The envelope should be addressed as follows: Office of the General Counsel, U.S. Copyright Office, LM 401, James Madison Building, 101 Independence Avenue, SE, Washington, DC. Please note that CCAS will not accept delivery by means of overnight delivery services such as Federal Express, United Parcel Service or DHL.

If sent by mail (including overnight delivery using U.S. Postal Service Express Mail), the sworn affidavit should be addressed to U.S. Copyright Office, Copyright GC/I&R, P.O. Box 70400, Southwest Station, Washington, DC 20024.

FOR FURTHER INFORMATION CONTACT: Tanya M. Sandros, Acting General Counsel, P.O. Box 70977, Southwest Station, Washington, DC 20024-0977. Telephone: (202) 707-8380. Telefax: (202) 252-3423.

SUPPLEMENTARY INFORMATION: Under the cable compulsory license, section 111 of title 17, United States Code, a cable operator may carry the signal of a television station classified as a specialty station at the base rate rather than at the higher 3.75% rate that is incurred for the carriage of a non-permitted signal. 37 CFR 256.2(c). Specialty station status is determined by reference to the former regulations of the Federal Communications Commission (FCC) which defined a specialty station as “a commercial television broadcast station that generally carries foreign-language, religious, and/or automated programming in one-third of the hours of an average broadcast week and one-third of the weekly prime-time hours.” 47 CFR 76.5(kk) (1981). The FCC no longer determines whether a station qualifies as a specialty station; however, the Copyright Office updates the list periodically, because the list remains relevant to the cable statutory license scheme.

The Copyright Office published its first specialty station list in 1990 under a procedure which allowed the licensee of the station to file an affidavit with the Office attesting to the fact that the station’s

programming comports with the 1981 FCC definition and hence, qualifies it as a specialty station. At the same time, the Office also announced its intention to regularly update the list. 55 FR 40021 (October 1, 1990). The Office’s second list was published in 1995. 60 FR 34303 (June 30, 1995). Its third list was published in 1998. 63 FR 67703 (December 8, 1998).

On February 8, 2007, the Copyright Office published a notice asking the licensee, or a valid agent of the licensee, to file a sworn affidavit with the Copyright Office stating that the station’s programming satisfies the FCC’s former requirements for specialty station status. 72 FR 6008 (February 8, 2007). In response to the notice, the Copyright Office received affidavits on behalf of sixty-one broadcast television stations. These stations are listed below. Any party that objects to another party’s claim to specialty station status should submit specific and factual comments as to which station(s) he or she objects to, and why. A final annotated list of specialty stations including references to any objections filed against a particular station licensee’s claim will be published in the Federal Register.

Copyright Office licensing examiners shall refer to the final annotated list in examining a statement of account where a cable system operator claims specialty station status for a particular station. If a cable system operator claims specialty station status for a station not on the published final list, the examiner determines whether the owner of the station has filed an affidavit since publication of the list. Affidavits received after publication of the final annotated list shall be kept on file in the Licensing Division of the Copyright Office. Any interested party may file an objection to any such late-filed affidavit and the objection shall be filed together with the corresponding affidavit.

List of Specialty Stations: Call Letter and Cities of License

KBLN, Grants Pass, OR

KAKW, Kileen, TX

KTFO-CA, Austin, TX

KDTV(TV), San Francisco, CA

KDTV-CA, Santa Rosa, CA

KFTV(TV), Hanford, CA

KMEX-TV, Los Angeles, CA

KNIC-TV, Blanco, TX

KTVW-TV, Phoenix, AZ

KTVW-CA, Flagstaff, AZ

KUTH(TV), Provo, UT

KUVE-TV, Green Valley, AZ

KUVE-CA, Tuscon, AZ

KUVN-TV, Garland, TX

KUVN-CA, Fort Worth, TX

KUVS-TV, Modesto, CA

KWEX-TV, San Antonio, TX

KXLN-TV, Rosenberg, TX

WGBO-TV, Joliet, IL

WFDC-TV, Arlington, VA

WLTV(TV), Miami, FL

WHQS-TV, Cleveland, OH

WUVG-TV, Athens, GA

WTNC-LP, Durham, NC

WUVC-TV, Fayetteville, NC

WUVP-TV, Vineland, NJ

WXTV(TV), Paterson, NJ

K48GX, Tuscon, AZ

KABE-LP, Bakersfield, CA

KFPH-TV, Flagstaff, AZ

KFPH-CA, Phoenix, AZ

KFSF-TV, Vallejo, CA

KFTH-TV, Alvin, TX

KFTR-TV, Ontatio, CA

KFTU-TV, Douglas, AZ

KFTU-CA, Tuscon, AZ

KSTR-TV, Irving, TX

KTFD-TV, Boulder, CO

KTFF-TV, Portersville, CA

KTFF-LP, Fresno, CA

KTFK-TV, Stockton, CA

KTFQ-TV, Albuquerque, NM

WAMI-TV, Hollywood, FL

WFTT-TV, Tampa, FL

WFTY-TV, Smithtown, NY

WFUT-TV, Newark, NJ

WOTF-TV, Melbourne, FL

WUTF-TV, Marlborough, MA

WXFT-TV, Aurora, IL

WLII(TV), Caguas, Puerto Rico

WSUR-TV Ponce, Puerto Rico

KBTF-CA, Bakersfield, CA

KFTO-CA, San Antonio, TX

KNIC-CA, San Antonio, TX

KTFB-CA, Bakersfield, CA

WFPA-CA, Philadelphia, PA

K21GC, Safford, AZ

K45DX, Floresville, TX

KZOL-LP, Safford, AZ

K16FB, Globe, AZ

KDOS-LP, Globe, AZ

Dated: June 8, 2007
Tanya M. Sandros,
Acting General Counsel.

[FR Doc. E7-11595 Filed 6-14-07; 8:45 am]

BILLING CODE 1410-30-S